DEPARTMENT OF AGRICULTURE

Rural Utilities Service

7 CFR Parts 1703, 1709, 1710, 1717, 1720, 1721, 1724, 1726, 1737, 1738, 1739, 1740, 1753, 1774, 1775, 1779, 1780, 1781, and 1782

Rural Business-Cooperative Service

Rural Housing Service

Rural Utilities Service

Farm Service Agency

7 CFR Parts 1924, 1940, 1942, 1944, 1948, 1951, 1955, 1962, 1970, and 1980

Rural Housing Service

7 CFR Parts 3550, 3560, 3565, 3570, and 3575

Rural Business-Cooperative Service

Rural Utilities Service

7 CFR Parts 4274, 4279, 4280, 4284, and 4290

RIN 0575-AC56

Environmental Policies and Procedures

AGENCY: Rural Housing Service, Rural Business-Cooperative Service, Rural Utilities Service, Farm Service Agency, U.S. Department of Agriculture (USDA).

ACTION: Proposed rule; extension of public comment period.

SUMMARY: Through this action, the Rural Housing Service, Rural Business-Cooperative Service, Rural Utilities Service, and Farm Service Agency is extending the comment period for the proposed rule, “Environmental Policies and Procedures” by 30 days from April 7, 2014 to May 7, 2014.

DATES: Comments on the proposed rule must be received on or before May 7, 2014.

ADDRESSES: You may submit comments to this rule by any of the following methods:

• Federal eRulemaking Portal: http://www.regulations.gov. Follow the instructions for submitting comments.

• Mail: Submit written comments via the U.S. Postal Service to the Branch Chief, Regulations and Paperwork Management Branch, U.S. Department of Agriculture, STOP 0742, 1400 Independence Avenue SW., Washington, DC 20250-0742.

• Hand Delivery/Courier: Submit written comments via Federal Express Mail or other courier service requiring a street address to the Branch Chief, Regulations and Paperwork Management Branch, U.S. Department of Agriculture, 300 7th Street SW., 7th Floor, Suite 701, Washington, DC 20024.

All written comments will be available for public inspection during regular work hours at the 300 7th Street SW., 7th Floor address listed above.

FOR FURTHER INFORMATION CONTACT: Mark S. Plank, Director, Environmental and Engineering Staff, Rural Utilities Service, Stop 1571, 1400 Independence Ave. SW., Washington, DC 20250-1571; email: Mark.Plank@wdc.usda.gov; telephone: (202) 720-1649.

SUPPLEMENTARY INFORMATION: On February 4, 2014, the Rural Housing Service, Rural Business-Cooperative Service, Rural Utilities Service, and Farm Service Agency published a proposed rule in the Federal Register (79 FR 6740), “Environmental Policies and Procedures.”

In the proposed rule, Rural Development, a mission area within the U.S. Department of Agriculture comprised of the Rural Housing Service (RHS), Rural Business-Cooperative Service (RBS) and Rural Utilities Service (RUS), hereafter referred to as the Agency, is proposing to unify and update environmental policies and procedures covering all Agency programs by consolidating two existing Agency regulations that implement the National Environmental Policy Act (NEPA) and other applicable environmental requirements. These rules supplement the regulations of the Council on Environmental Quality (CEQ), the regulations of the Advisory Council on Historic Preservation (ACHP), associated environmental statutes, Executive orders and Departmental Regulations. The majority of the proposed changes relate to the categorical exclusion provisions in the Agency's procedures for implementing NEPA. These proposed changes are intended to better align the Agency's regulations, particularly for those actions listed as categorical exclusions, to the Agency's current activities and recent experiences and to the CEQ's Memorandum for Heads of Federal Departments and Agencies entitled “Establishing, Applying, and Revising Categorical Exclusions under the National Environmental Policy Act” issued on November 23, 2010, and to consolidate the provisions of the Agency's two current NEPA rules at 7 CFR parts 1794 and 1940, subpart G.

Dated: March 20, 2014.
Patrice Kunesh,
Acting Deputy Under Secretary, Rural Development.
Dated: March 26, 2014.
Michael T. Scuse,
Under Secretary, Farm and Foreign Agricultural Services.

[FR Doc. 2014-07236 Filed 4-1-14; 8:45 am]

BILLING CODE 3410-XV-P